Title 3—

The President

Proclamation 7659 of April 4, 2003

National Crime Victims' Rights Week, 2003

By the President of the United States of America

A Proclamation

Crime brings trauma, pain, and insecurity into the lives of too many Americans each year. As we work to reduce crime and protect the rights of the accused, we must take equal care to protect the rights of their victims. During National Crime Victims' Rights Week, we remember those who have suffered as a result of crime and honor those who have helped these victims.

Americans suffered over 24 million crimes in 2001, 5.7 million of which involved violence. While we have improved policies and our justice system has treated victims with greater respect in recent years, we must continue our work to ensure the full rights of all crime victims and better protect our citizens. My Administration believes that victims of violent crime have important rights that deserve protection in our Constitution, and to guarantee these rights, I strongly support the passage of the bipartisan Crime Victims' Rights Amendment. This amendment will provide victims of violent crime the right to reasonable and timely notice of any public proceedings involving the crime or release of the perpetrator, and the right to be heard at public proceedings regarding the criminal's sentence or potential release. It will also assure that such victims receive timely notice of any escape of their attacker. Under this amendment, decision makers will duly consider the victim's safety and payment of restitution from the offender to the victim. This important amendment will strike the right balance in protecting individual rights and ensuring fairness and equity in our criminal justice system.

Across our Nation, victims' rights groups work on behalf of victims every day. Through care and compassion, these groups and individuals are bringing hope and comfort to their neighbors in need. Domestic violence shelters, support groups for families of homicide victims, rape crisis centers, and other organizations in our cities and communities offer vital assistance to individuals who have been affected by crime. In times of such crises, counselors, hotline operators, clergy, doctors, nurses, law enforcement, and countless others also help their fellow Americans cope with their pain and suffering.

As a Nation, we must continue to seek justice on behalf of all people who have been victimized by crime. The heroes in these efforts are the individuals and organizations who work to provide valuable support and assistance to those who have suffered from crime. This week allows us to recognize these heroes and renew our commitment to fulfilling the promise of our Nation of justice for all.

NOW, THEREFORE, I, GEORGE W. BUSH, President of the United States of America, by virtue of the authority vested in me by the Constitution and laws of the United States, do hereby proclaim April 6 through April 12, 2003, as National Crime Victims' Rights Week. I encourage every community to embrace the cause of victims' rights and to advance it in all sectors of our society.

IN WITNESS WHEREOF, I have hereunto set my hand this fourth day of April, in the year of our Lord two thousand three, and of the Independence of the United States of America the two hundred and twenty-seventh

B

[FR Doc. 03-8831

Filed 4-8-03; 8:45 am]

Billing code 3195-01-P.